DEPARTMENT OF THE INTERIOR

National Park Service

Notice of Inventory Completion for Native American Human Remains and Associated Funerary Objects in the Possession of the Milwaukee Public Museum, Milwaukee, WI

AGENCY: National Park Service.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology, in consultation with representatives of the Three Affiliated Tribes of the Fort Berthold Reservation, North Dakota.

At an unknown date prior to 1921, human remains representing two individuals were removed from the Motsiff Farm Site (32-MO-29), Mandan, Morton County, ND, by Field Museum of Natural History staff L. L. Walters. Mr. Walters sold these human remains to the Milwaukee Public Museum in 1921. No known individuals were identified. No associated funerary objects are present.

At an unknown date prior to 1921, human remains representing five individuals were removed from sites in the vicinity of Mandan, Morton County, ND, by Field Museum of Natural History staff L.L. Walters. Mr. Walters sold these human remains to the Milwaukee Public Museum in 1921. No known individuals were identified. No associated funerary objects are present.

Other material culture from the sites from which the remains were removed date the occupations to circa A.D. 1500-1700.

Based on cranial morphology, dental traits, and burial associations, these individuals are identified as Native American. The geographical location and dates of the burials are consistent with the traditional territory of the Mandan people during the same time period. Consultation evidence provided by representatives of the Three Affiliated Tribes of the Fort Berthold Reservation, North Dakota has identified the sites as part of the Mandan's traditional occupation area between A.D. 1500-1700.

Based on the above-mentioned information, officials of the Milwaukee Public Museum have determined that, pursuant to 43 CFR 10.2 (d)(1), the human remains listed above represent the physical remains of seven individuals of Native American ancestry. Officials of the Milwaukee Public Museum also have determined that, pursuant to 43 CFR 10.2 (e), there is a relationship of shared group identity that can be reasonably traced between these Native American human remains and the Three Affiliated Tribes of the Fort Berthold Reservation, North Dakota.

This notice has been sent to officials of the Three Affiliated Tribes of the Fort Berthold Reservation, North Dakota. Representatives of any other Indian tribe that believes itself to be culturally affiliated with these human remains should contact Dr. Alex Barker, Anthropology Section Head, Milwaukee Public Museum, 800 West Wells Street, Milwaukee, WI 53233, telephone (414) 278-2786, before February 26, 2001. Repatriation of the human remains to the Three Affiliated Tribes of the Fort Berthold Reservation, North Dakota may begin after that date if no additional claimants come forward.

Dated: January 15, 2001.
John Robbins,
Assistant Director, Cultural Resources, Stewardship, and Partnerships.

[FR Doc. 01-2344 Filed 1-25-01; 8:45 am]

BILLING CODE 4310-70-F